U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on March 13, 2020 on “A `China Model?' Beijing's Promotion of Alternative Global Norms and Standards.”

DATES: The hearing is scheduled for Friday, March 13, 2020 at 9:30 a.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Brittney Washington, 444 North Capitol Street NW, Suite 602, Washington DC 20001; telephone: 202-624-1482, or via email at bwashington@uscc.gov. Reservations are not required to attend the hearing.

ADA Accessibility: For questions about the accessibility of the event or to request an accommodation, please contact Brittney Washington at 202-624-1482, or via email at bwashington@uscc.gov. Requests for an accommodation should be made as soon as possible, and at least five business days prior to the event.

SUPPLEMENTARY INFORMATION:

Background: This is the third public hearing the Commission will hold during its 2020 report cycle. This hearing will assess the intentions behind China's efforts to revise international governance institutions, norms and values, and technical standards-setting bodies. It will examine China's vision for a revised global order, its actions in existing and newly-established international organizations to achieve its goals, and its attempts to promote new norms for the global digital economy. In so doing, the hearing will attempt to identify whether a distinguishable China model exists; if so, to what extent China is seeking to export it to other countries, and for what purpose; and the consequences of China's growing influence in global governance and standards-setting bodies for U.S. interests. The hearing will be co-chaired by Senator Carte Goodwin and Senator Jim Talent. Any interested party may file a written statement by March 13, 2020 by mailing to the contact above. A portion of each panel will include a question and answer period between the Commissioners and the witnesses.

Authority: Congress created the U.S.-China Economic and Security Review Commission in 2000 in the National Defense Authorization Act Pub. L. 106-398), as amended by Division P of the Consolidated Appropriations Resolution, 2003 (Pub. L. 108-7), as amended by Public Law 109-108 (November 22, 2005), as amended by Public Law 113-291 (December 19, 2014).

Dated: February 24, 2020.
Daniel W. Peck,
Executive Director, U.S.-China Economic and Security Review Commission.

[FR Doc. 2020-04035 Filed 2-26-20; 8:45 am]

BILLING CODE 1137-00-P